DEPARTMENT OF HOMELAND SECURITY

Coast Guard

33 CFR Part 117

[Docket No. USCG-2013-0063]

RIN 1625-AA09

Drawbridge Operation Regulations; Pelican Island Causeway, Galveston, Channel, TX

AGENCY: Coast Guard, DHS.

ACTION: Temporary final rule.

SUMMARY: The Coast Guard is temporarily changing the operating schedule that governs the Pelican Island Causeway bridge across Galveston Channel mile 4.5 (GIWW mile 356.1), at Galveston, Texas. The temporary change to the regulations will allow the bridge to remain closed to navigation while major repairs are conducted to the mechanical portions of the bascule span. Failure to complete the repairs in a timely manner may render the bridge completely inoperable for the passage of vessel traffic.

DATES: This temporary final rule is effective from May 6, 2013, until July 8, 2014.

ADDRESSES: Documents mentioned in this preamble are part of docket USCG-2013-0063. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary rule, call or email David Frank, Bridge Administration Branch, Coast Guard; telephone 504-671-2128, email David.M.Frank@uscg.mil. If you have questions on viewing the docket, call Barbara Hairston, Program Manager, Docket Operations, telephone 202-366-9826.

SUPPLEMENTARY INFORMATION:

Table of Acronyms

CFR Code of Federal Regulations

DHS Department of Homeland Security

FR Federal Register

NPRM Notice of Proposed Rulemaking

§ Section Symbol

U.S.C. United States Code

A. Regulatory History and Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b), the Coast Guard finds that good cause exists for not publishing a notice of proposed rulemaking (NPRM) with respect to this rule. Publishing an NRPM is impracticable because the severity of damage and subsequent repairs necessary for this bridge were not known until recently. In this case because the scheduled repair work involved requires the bridge to be closed to navigation throughout the repair period, failure to allow the repair work to proceed as expeditiously as possible may render the bridge inoperable due to a catastrophic failure of the machinery that opens and closes the bridge. If this were to occur, the bridge would have to be closed for a much longer period of time while the machinery failures are repaired. Further, while this closure will prevent certain vessels from passing under the bridge, vessels will be able to transit an alternate route around the island through the Galveston Channel, an additional distance of up to three miles.

B. Basis and Purpose

The Pelican Island Causeway bridge, Galveston Channel mile 4.5 (GIWW mile 356.1), at Galveston, Texas, is a bascule bridge connecting Galveston Island with Pelican Island in Galveston, Texas. The roadway is the only land route between the two islands and is a vital link to numerous facilities and to the Texas A&M University Galveston Maritime School. A recent inspection by the Texas Department of Transportation and the Federal Highway Administration has determined that the “rocker segmental girder tracks” that allow the bridge to open and close are severely damaged and in need of immediate repair. Due to the advanced age of the bridge, replacement parts are unavailable and the existing parts will have to be removed and molds will have to be made to manufacture replacement parts.

Presently, in accordance with 33 CFR 117.966, the draw of the Pelican Island Causeway bridge across Galveston Channel, mile 4.5 of the Galveston Channel, (GIWW mile 356.1) at Galveston, Texas, shall open on signal; except that, from 6:40 a.m. to 8:10 a.m., 12 noon to 1 p.m., and 4:15 p.m. to 5:15 p.m. Monday through Friday except Federal holidays, the draw need not be opened for passage of vessels. Public vessels of the United States and vessels in distress shall be passed at any time.

Vessel traffic consists of mainly small tows and supply vessels, recreational boats and some commercial shrimpers. The bridge opens approximately 7 times per day for the passage of vessels. The vertical clearance of the bridge in the closed to navigation position is 13 feet above mean high water.

Approximately 4000 vehicles cross the bridge in each direction daily. This includes students, factory and shipyard workers and delivery vehicles of all types.

Failure to complete the repairs in a timely manner may cause a catastrophic failure of the bridge requiring a longer closure of the bridge to effect repairs. Presently, TXDOT has issued a contract for the repairs and the contractor is set to begin on May 6, 2013. The Corps of Engineers, the Port of Galveston, waterway users and the Coast Guard discussed the need for the closure with the bridge owner, TXDOT, FHWA, and the contractor to discuss ways to minimize the effects on navigation and understand the need for the work. These parties also acknowledge the fact that marine traffic can transit around the island through the Galveston Channel, an additional distance of up to three miles, with little or no interruption to their services.

C. Discussion of Temporary Final Rule

The temporary final rule will allow the bridge to be left in the closed-to-navigation position and jacked up to facilitate the removal of the rocker segmental girder track for repair/replacement of the damaged parts of the track. Removal of the track renders the bridge inoperable with regards to opening for the passage of vessels. This rule is effective from 6 a.m. on May 6, 2013, until 6 a.m. on July 8, 2014.

D. Regulatory Analyses

We developed this rule after considering numerous statutes and executive orders related to rulemaking. Below we summarize our analyses based on these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Order 12866 or under section 1 of Executive Order 13563. The Office of Management and Budget has not reviewed it under those Orders.

This rule is not a significant regulatory action because it has been coordinated with those parties affected by the closure and it is understood that the work is necessary for the continued operation of the bridge and by allowing it to happen in a timely manner, it further reduces the possibility of catastrophic failure of the movable bridge. Additionally, this closure will not significantly impact navigation in the area as marine traffic may transit around the island through the Galveston Channel, an additional distance of up to three miles.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant impact on a substantial number of small entities.

This rule would affect the following entities, some of which may be small entities: The owners or operators of vessels with vertical clearance requirements of greater than 13 feet intending to transit beneath the bridge from 6 a.m. on May 6, 2013, until 6 a.m. on July 8, 2014.

This rule will not have a significant economic impact on a substantial number of small entities for the following reasons: The bridge closure will prevent certain vessels from transiting beneath it; however, those vessels may safely transit around the island through the Galveston Channel, an additional distance of up to three miles.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule calls for no new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this proposed rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that might disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guides the Coast Guard in complying with the National Environmental Policy Act of 1969 (NEPA)(42 U.S.C. 4321-4370f), and have concluded that this action is one of a category of actions which do not individually or cumulatively have a significant effect on the human environment. This rule involves allowing a movable bridge to remain closed to navigation for 14 months and will not have any impact on the environment. This rule is categorically excluded, under figure 2-1, paragraph (32)(e), of the Instruction.

Under figure 2-1, paragraph (32)(e), of the Instruction, an environmental analysis checklist and a categorical exclusion determination are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. Effective 6 a.m. on May 6, 2013, until 6 a.m. on July 8, 2014, suspend § 117.966.

3. Add § 117.T966 to read as follows:

§ 117.T966 Pelican Island Causeway, Galveston Channel

The draw of the Pelican Island Causeway bridge across Galveston Channel, mile 4.5 of the Galveston Channel, (GIWW mile 356.1) at Galveston, Texas, need not open for the passage of vessels. This rule is effective from 6 a.m. on May 6, 2013, until 6 a.m. on July 8, 2014.

Dated: March 22, 2013.
Roy A. Nash,
Rear Admiral, U.S. Coast Guard, Commander, Eighth Coast Guard District.

[FR Doc. 2013-07908 Filed 4-4-13; 8:45 am]

BILLING CODE 9110-04-P